DEPARTMENT OF THE INTERIOR

National Park Service

Announcement of the National Park Service (NPS) Subsistence Resource Commission (SRC) Meetings Within the Alaska Region

AGENCY: National Park Service, Interior.

SUMMARY: The National Park Service (NPS) announces the SRC meeting schedule for the following NPS areas: Aniakchak National Monument and Lake Clark National Park. The purpose of each meeting is to develop and continue work on subsistence hunting program recommendations and other related subsistence management issues. Each meeting is open to the public and will have time allocated for public testimony. The public is welcomed to present written or oral comments to the SRC.

The NPS SRC program is authorized under Title VIII, Section 808, of the Alaska National Interest Lands Conservation Act, Public Law 96-487, to operate in accordance with the provisions of the Federal Advisory Committee Act. Draft meeting minutes will be available upon request from each Superintendent for public inspection approximately six weeks after each meeting.

DATES: The Aniakchak National Monument SRC meeting will be held on Tuesday, September 19, 2006, from 1 p.m. to 5 p.m.

Location: The Aniakchak National Monument SRC meeting will be held at the Chignik Lake Subsistence Building in Chignik Lake, AK.

FOR FURTHER INFORMATION CONTACT: Mary McBurney, Subsistence Manager, 2181 Kachemak Drive, Homer, AK 99603, E-mail: mary_mcburney@nps.gov; telephone: (907) 235-7891; or Troy Hamon, Acting Superintendent and Chief of Resources, Aniakchak National Monument and Preserve, P.O. Box 7, King Salmon, AK 99613, E-mail: troy_hamon@nps.gov, telephone: (907) 246-2121 or (907) 246-3305.

DATES: The Lake Clark National Park SRC meeting will be held on Thursday, September 21, 2006, from 1 p.m. to 5 p.m.

Location: The Lake Clark National Park SRC meeting will be held at the Newhalen Public School, in Newhalen, AK.

FOR FURTHER INFORMATION CONTACT: Mary McBurney, Subsistence Manager, 2181 Kachemak Drive, Homer, AK 99603, E-mail: mary_mcburney@nps.gov; telephone: (907) 235-7891; or Joel Hard, Superintendent, Lake Clark National Park and Preserve, E-mail: joel_hard@nps.gov, telephone: (907) 271-3751.

SUPPLEMENTARY INFORMATION: SRC meeting locations and dates may need to be changed due to weather conditions or local circumstances. If meeting dates and locations are changed a public notice will be published in local newspapers and announced on local radio stations.

The proposed agenda for each meeting includes the following:

1. Call to order by Chair.

2. Roll call and confirmation of quorum.

3. Superintendent's welcome and report.

4. Approval of minutes from last Commission meeting.

5. Additions and corrections to draft agenda.

6. SRC purpose and status of membership.

7. Public and other agency comments.

8. Old Business.

a. Follow-up report on SRC recommendations from last meeting.

b. Federal Subsistence Board Actions and Proposals.

c. Alaska Board of Game Actions and Proposals.

9. New Business.

a. Resource Management Program Updates.

b. Avian Flu Update.

c. Cultural and Subsistence Program Updates.

d. Other Subsistence Related Issues.

10. Public and other agency comments.

11. Subsistence Resource Commission Work Session.

12. Set time and place of next SRC meeting.

13. Adjournment.

Marcia Blaszak,
Regional Director, Alaska Region.

[FR Doc. E6-11425 Filed 7-18-06; 8:45 am]

BILLING CODE 4312-HE-P